ENVIRONMENTAL PROTECTION AGENCY

[EPA-HQ-ORD-2013-0430; FRL 9943-05-ORD]

Public Comment Draft for the Integrated Risk Information System (IRIS) Assessment of Hexahydro-1,3,5-trinitro-1,3,5-triazine (RDX)

AGENCY: Environmental Protection Agency (EPA).

ACTION: Notice of public comment period.

SUMMARY: Environmental Protection Agency (EPA) is announcing a 60-day public comment period for the draft IRIS Toxicological Review of Hexahydro-1,3,5-trinitro-1,3,5-triazine (RDX). The draft document was prepared by the National Center for Environmental Assessment (NCEA) within EPA's Office of Research and Development (ORD).

EPA is releasing this draft IRIS assessment for public comment and discussion during the May 10, 2016 IRIS Public Science Meeting. All future announcements about this public comment draft and IRIS Public Science Meetings will be made on the IRIS Web site (www.epa.gov/iris). This draft assessment is not final as described in EPA's information quality guidelines, and it does not represent, and should not be construed to represent Agency policy or views. EPA will consider all public comments submitted in response to this notice when revising this document.

DATES: The 60-day public comment period begins March 10, 2016, and ends May 9, 2016. Comments must be received on or before May 9, 2016.

ADDRESSES: The draft IRIS Toxicological Review of Hexahydro-1,3,5-trinitro-1,3,5-triazine (RDX) will be available via the Internet on IRIS' Recent Additions at http://www.epa.gov/iris/iris-recent-additions or the public docket at http://www.regulations.gov, Docket ID: EPA-HQ-ORD-2013-0430.

FOR FURTHER INFORMATION CONTACT: For information on the public comment period, contact the ORD Docket at the EPA Headquarters Docket Center; telephone: 202-566-1752; facsimile: 202-566-9744; or email: Docket_ORD@epa.gov.

For technical information on the draft IRIS assessment of Hexahydro-1,3,5-trinitro-1,3,5-triazine (RDX), contact Dr. Louis D'Amico, NCEA; telephone: 703-347-0344; facsimile: 703-347-8689; or email: damico.louis@epa.gov.

SUPPLEMENTARY INFORMATION:

I. Information About IRIS

EPA's IRIS Program is a human health assessment program that evaluates quantitative and qualitative risk information on effects that may result from exposure to chemicals found in the environment. Through the IRIS Program, EPA provides the highest quality science-based human health assessments to support the Agency's regulatory activities and decisions to protect public health. The IRIS database contains information on chemicals that can be used to support the first two steps (hazard identification and dose-response evaluation) of the human health risk assessment process. When supported by available data, IRIS provides health effects information and toxicity values for health effects (including cancer and effects other than cancer). Government and others combine IRIS toxicity values with exposure information to characterize public health risks of chemicals; this information is then used to support risk management decisions designed to protect public health.

II. How to Submit Technical Comments to the Docket at http://www.regulations.gov

Submit your comments, identified by Docket ID No. EPA-HQ-ORD-2013-0430, by one of the following methods:

• http://www.regulations.gov: Submit your comments, identified by Docket ID No. EPA-HQ-ORD-2013-0430 to the Federal eRulemaking Portal: http://www.regulations.gov. Follow the online instructions for submitting comments. Once submitted, comments cannot be edited or withdrawn. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e. on the Web, cloud, or other file sharing system). For additional submission methods, the full EPA public comment policy, information about CBI or multimedia submissions, and general guidance on making effective comments, please visit http://www2.epa.gov/dockets/commenting-epa-dockets.

• Email: Docket_ORD@epa.gov.

• Fax: 202-566-9744.

• Mail: U.S. Environmental Protection Agency, EPA Docket Center (ORD Docket), Mail Code: 28221T, 1200 Pennsylvania Avenue NW., Washington, DC 20460. The phone number is 202-566-1752.

• Hand Delivery: The ORD Docket is located in the EPA Headquarters Docket Center, EPA West Building, Room 3334, 1301 Constitution Avenue NW., Washington, DC.

The EPA Docket Center Public Reading Room is open from 8:30 a.m. to 4:30 p.m., Monday through Friday, excluding legal holidays. The telephone number for the Public Reading Room is 202-566-1744. Deliveries are only accepted during the docket's normal hours of operation, and special arrangements should be made for deliveries of boxed information. If you provide comments by mail or hand delivery, please submit three copies of the comments. For attachments, provide an index, number pages consecutively with the comments, and submit an unbound original and three copies.

Docket: Documents in the docket are listed in the www.regulations.gov index. Although listed in the index, some information is not publicly available, e.g., CBI or other information whose disclosure is restricted by statute. Certain other materials, such as copyrighted material, are publicly available only in hard copy. Publicly available docket materials are available either electronically in www.regulations.gov or in hard copy at the ORD Docket in the EPA Headquarters Docket Center.

Dated: March 1, 2016.
Mary A. Ross,
Deputy Director, National Center for Environmental Assessment (NCEA).

[FR Doc. 2016-05277 Filed 3-8-16; 8:45 am]

BILLING CODE 6560-50-P